ENVIRONMENTAL PROTECTION AGENCY

[EPA-HQ-OW-2017-0300; FRL-11639-01-OMS]

Agency Information Collection Activities; Submission to the Office of Management and Budget for Review and Approval; Comment Request; Lead and Copper Rule Revisions (LCRR) (Renewal)

AGENCY: Environmental Protection Agency (EPA).

ACTION: Notice.

SUMMARY: The U.S. Environmental Protection Agency (EPA) has submitted an information collection request (ICR), Lead and Copper Rule Revisions (LCRR)” (EPA ICR Number 2606.03, OMB Control Number 2040-0297) to the Office of Management and Budget (OMB) for review and approval in accordance with the Paperwork Reduction Act. This is a proposed extension of the LCRR ICR, which is currently approved through December 31, 2023. Public comments were previously requested via the Federal Register on July 24, 2023, during a 60-day comment period. This notice allows for an additional 30 days for public comments.

DATES: Additional comments may be submitted on or before January 29, 2024.

ADDRESSES: Submit your comments, referencing Docket ID Number EPA-HQ-OW-2017-0300, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Amina Grant, Office of Water, Mail Code 4607M, Environmental Protection Agency, 1200 Pennsylvania Ave. NW, Washington, DC 20460; telephone number: 202-564-7683; email address: Grant.Amina@epa.gov.

SUPPLEMENTARY INFORMATION: This is a proposed extension of the LCRR ICR, which is currently approved through December 31, 2023. An agency may not conduct or sponsor and a person is not required to respond to a collection of information unless it displays a currently valid OMB control number.

Public comments were previously requested via the Federal Register on July 24, 2023, during a 60-day comment period (88 FR 47496). This notice allows for an additional 30 days for public comments. Supporting documents, which explain in detail the information that EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR renewal characterizes the incremental impacts of the LCRR regarding burden and costs for the three-year period of January 1, 2024, through December 31, 2026. In addition to renewing the LCRR ICR, this request includes information on potential burden that may result if respondents follow recommendations included in EPA's SL Inventory Guidance when seeking to comply with LCRR inventory requirements over the same three-year period.

EPA intends to revise the LCRR prior to its compliance date. The proposed Lead and Copper Rule Improvements (LCRI) was published on December 6, 2023 (88 FR 84878), and EPA intends to promulgate the final LCRI by October 16, 2024, revising many rule areas of the LCRR. Additional information on the potential burden established in the proposal preamble may result from respondents following EPA's recommendations in the “Guidance for Developing and Maintaining a Service Line Inventory” (August 2022, EPA 816-B-22-001) (referred to as SL Inventory Guidance) when seeking to comply with the requirements of the LCRR. If the LCRI is promulgated as planned, there would be no need for water systems to implement the LCRR except for the initial inventory requirements, public education requirements for consumers served by a lead, galvanized requiring replacement, or unknown service line, and the 24-hour public notice requirement. Similarly, states are not expected to apply for or obtain primacy for the LCRR. Currently, most states have sought, or intend to seek, an extension until December 18, 2025, to obtain primacy for the LCRR. If the LCRI is promulgated as planned in 2024, that primacy deadline would no longer be applicable. For the purposes of this ICR, however, this notice includes the estimated burden and costs associated with this ICR renewal for the LCRR as well as describes what would happen without promulgation of the LCRI. It is provided for the reader to understand the information that would be collected if the LCRI is not promulgated. When EPA promulgates the LCRI, the Agency intends to issue a new ICR that would describe and assess the revised burden and costs to reflect the changed regulatory requirements of the LCRI.

Form Numbers: None.

Respondents/affected entities: Respondents include owners/operators of PWSs and primacy agencies (and the EPA Regions with primary agency responsibility).

Respondent's obligation to respond: Both mandatory (LCRR requirements) and voluntary (SL Inventory Guidance) components.

Estimated number of respondents: The number of respondents is 67,712.

Frequency of response: Once and annually, varies by activity.

Total estimated burden: 9,660,286 hours (per year). Burden is defined at 5 CFR 1320.03(b).

Total estimated cost: $641,162,423(per year), which includes $225,456,799 annualized capital or operation & maintenance costs.

Changes in the Estimates: There is an increase of 8,530,946 hours in the total estimated respondent burden compared with the ICR currently approved by OMB. This increase is primarily due to the differing ICR burden estimation windows. The previous ICR covered the first three years after the promulgation of the LCRR when PWSs and primacy agencies could have been engaged in the regulatory startup/implementation activities identified in the currently approved ICR. This ICR renewal covers these same activities from the current ICR for only the first year of the renewal period (2024). In the next two years covered by the ICR renewal (2025 and 2026), if the LCRI is not promulgated as planned in 2024, both systems and primacy agencies would work to implement several ongoing, additional LCRR requirements.

Courtney Kerwin,
Director, Information Engagement Division.

[FR Doc. 2023-28641 Filed 12-27-23; 8:45 am]

BILLING CODE 6560-50-P